DEPARTMENT OF EDUCATION

Applications for New Awards; Training of Interpreters for Individuals Who Are Deaf or Hard of Hearing and Individuals Who Are DeafBlind Program; Correction

AGENCY: Office of Special Education and Rehabilitative Services, Department of Education.

ACTION: Notice; correction.

SUMMARY: On July 26, 2021, the Department of Education (Department) published in the Federal Register a notice inviting applications (NIA) for new awards for fiscal year (FY) 2021 for the Training of Interpreters for Individuals Who Are Deaf or Hard of Hearing and Individuals Who Are DeafBlind program, Assistance Listing Number 84.160D. We are correcting one error in the Application Requirements. All other information in the NIA, including the August 30, 2021, deadline for transmittal of applications, remains the same.

DATES: This correction is applicable August 19, 2021.

FOR FURTHER INFORMATION CONTACT: Kristen Rhinehart-Fernandez, U.S. Department of Education, 400 Maryland Avenue SW, Room 5094, Potomac Center Plaza, Washington, DC 20212-2800. Telephone: (202) 245-6103. Email: 160D@ed.gov.

If you use a telecommunications device for the deaf (TDD) or a text telephone (TTY), call the Federal Relay Service (FRS), toll free, at 1-800-877-8339.

SUPPLEMENTARY INFORMATION: On July 26, 2021, we published the NIA in the Federal Register (86 FR 40021). Under Application Requirements, “Quality of Project Services,” paragraph (c)(8)(i) directed applicants to paragraph (a)(2)(i), which is not included in the requirements. This notice corrects the error made in paragraph (c)(8)(i) and directs applicants to paragraph (a)(3) instead of (a)(2)(i). All other requirements and conditions in the NIA remain the same.

Correction

In FR Doc. 2021-15914 appearing on page 40023 of the Federal Register of July 26, 2021, the following corrections are made:

1. On page 40023, in the right column, under Application Requirements, “Quality of Project Services,” (c)(8)(i), remove “(a)(2)(i)” and add in its place “(a)(3)”.

Note: This change does not change any requirements in the notice. Applicants were made aware of this correction through a pre-application meeting via conference call on July 30, 2021. The correction is included in the 84.160D pre-applicant slide deck and pre-application meeting summary of questions and answers, both available at https://ncrtm.ed.gov/RSAGrantInfo.aspx. The summary of questions and answers will be available within six business days after the pre-application meeting.

Program Authority: 29 U.S.C. 709(c) and 772(a) and (f).

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Acting Assistant Secretary for the Office of Special Education and Rehabilitative Services.

[FR Doc. 2021-17772 Filed 8-18-21; 8:45 am]

BILLING CODE 4000-01-P